DEPARTMENT OF THE INTERIOR

National Park Service

[NPS-WASO-NRNHL-15873; PPWOCRADI0, PCU00RP14.R50000]

National Register of Historic Places; Notification of Pending Nominations and Related Actions

Nominations for the following properties being considered for listing or related actions in the National Register were received by the National Park Service before May 17, 2014. Pursuant to § 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th Floor, Washington, DC 20005; or by fax, 202-371-6447. Written or faxed comments should be submitted by June 27, 2014. Before including your address, phone number, email address, or other personal identifying information in your comment, you should be aware that your entire comment—including your personal identifying information—may be made publicly available at any time. While you can ask us in your comment to withhold your personal identifying information from public review, we cannot guarantee that we will be able to do so.

Dated: May 22, 2014.
Alexandra Lord,
Acting Chief, National Register of Historic Places/National Historic Landmarks Program.

CALIFORNIA

Monterey County

Mission Nuestra Senora de la Soledad Historic District, 36641 Fort Romie Rd., Soledad, 14000344

GEORGIA

Chatham County

Bordley Cottage—Beach View House, 1701 Butler Ave., Tybee Island, 14000345

KANSAS

Butler County

First Presbyterian Church of De Graff, 1145 NW. 108th St., Burns, 14000346

Moyle, John, Building, 605 & 607 N. State St., Augusta, 14000347

Doniphan County

Lincoln School, District 2, (Public Schools of Kansas MPS) 410 N. 9th St., Elwood, 14000348

Harper County

First Congregational Church, 202 N. Bluff Ave., Anthony, 14000349

Sedgwick County

Victor Court Apartments, (Residential Resources of Wichita, Sedgwick County, Kansas 1870-1957 MPS) 140 N. Hydraulic Ave. Wichita, 14000350

Wichita County

Washington, William B. and Julia, House, 112 N. 3rd St., Leoti, 14000351

Wyandotte County

Town House Hotel, 1021 N. 7th St. Trafficway, Kansas City, 14000352

OHIO

Cuyahoga County

Northern Ohio Blanket Mills, 3160 & 3166 W. 33rd St., 3401 Paris Ave., 3167 Fulton Rd., Cleveland, 14000353

Franklin County

Zettler Grocery and Hardware, 268 S. 4th St., Columbus, 14000354

Hamilton County

Ambassador, The, (Apartment Buildings in Ohio Urban Centers, 1870-1970 MPS) 722-724 Gholson Ave., Cincinnati, 14000356

Somerset Apartments, The, (Apartment Buildings in Ohio Urban Centers, 1870-1970 MPS) 802-814 Blair Ave., Cincinnati, 14000355

A request for removal has been received for the following resources:

TEXAS

Denton County

Gregory Road Bridge at Duck Creek, Approx. 0.5 mi. W. of Lois Rd., near the N. Denton County line, Sanger, 03001419

McLennan County

Brown—Mann House, 725 W. Sixth St., McGregor, 87001887

[FR Doc. 2014-13692 Filed 6-11-14; 8:45 am]

BILLING CODE 4312-51-P